DEPARTMENT OF JUSTICE

National Institute of Corrections

Solicitation for a Cooperative Agreement—Development of a 21st Century Corrections Learning Professional Competency Model

AGENCY: National Institute of Corrections, U.S. Department of Justice.

ACTION: Solicitation for a Cooperative Agreement.

SUMMARY: The National Institute of Corrections (NIC) is soliciting proposals from organizations, groups, or individuals to enter into a cooperative agreement in a twelve (12) month project period for the development of a Corrections Learning Professional Competency Model. This project will identify the workplace learning competencies needed by correctional learning/training professionals at different organizational levels. It will define the competency, identify the relevant knowledge needed for its development, describe behaviors that are reflective of the competency, identify the skills required to use and develop the competency and suggest training strategies appropriate to the competency. The competency model will provide the foundation and focus, in conjunction with the NIC Learning and Performance White Paper (to be completed October, 2012), and the knowledge, skills, behaviors, responsibilities, and tasks needed for the future development and delivery of corrections learning work within the NIC Academy and the field of corrections. It will also provide a model for learning professionals in the field of corrections.

DATES: Applications must be received by 4:00 p.m. on Thursday, August 9, 2012.

ADDRESSES: Applicants will be encouraged to submit their proposals electronically via http://www.grants.gov. Applications may also be sent to: Director, National Institute of Corrections, 320 First Street NW., Room 5002, Washington, DC 20534. Applicants submitting proposals non-electronically should provide three unbound copies of all documents and are encouraged to use Federal Express, UPS, or similar service to ensure delivery by the due date. Faxed applications will not be accepted.

FOR FURTHER INFORMATION CONTACT: All technical or programmatic questions concerning this announcement should be directed to Bernie Iszler, Correctional Program Specialist, National Institute of Corrections. She can be reached by calling 303-338-6618 or by email at biszler@bop.gov.

SUPPLEMENTARY INFORMATION:

Background: NIC has prioritized building training capacity in corrections agencies for decades. Historically the NIC Academy's work has included development of multiple curricula for corrections trainers and training administrators based on the field's needs, development of new technologies and the latest workplace learning research.

As NIC envisions its work with corrections learning professionals in this century, we foresee multiple challenges that need to be addressed and explored including: A shift in roles from training director to learning and performance manager, from trainer to learning facilitator, a shift from only classroom content delivery to delivery in electronic platforms including synchronous and asynchronous sessions, a shift from training as an event to learning as a process including the creation of learning opportunities on a continuum from readiness preparation to on-demand just-in-time availability to coaching in the workplace. These shifts call for the development of a new competency model that places the learning professional in a position to enhance the performance of their agency. (reference: ASTD Competency Study: Mapping the Future)

Scope of Work: Tasks to be performed under this cooperative agreement include: (1) Identify the competencies needed by correctional learning leaders, training administrators, trainers, facilitators, adjunct trainers, subject matter experts and other levels of responsibility and job descriptions; (2) develop a profile for different levels of correctional learning professionals; (3) determine, list, and justify which competencies are most critical to each level; (4) identify a knowledge base and/or relevant theories required by the learning professional to use and develop the core competencies; (5) identify the skills required to use and develop the competencies at each level; (6) identify behaviors that reflect the core competencies at each level; and (7) provide tools with which NIC and correctional learning professionals in the field can use to revise and develop programs with appropriate combination of theoretical and skill-based content. Deliverables will include: (1) A brief narrative review of the project; (2) Learning professional profiles at different levels of responsibility and job descriptions; (3) A narrative describing existing workplace learning professional competencies; and (4) The Corrections Learning Professional Competency Model format in the form of a matrix containing the name of each competency, and a definition and description of each competency. While this solicitation for a cooperative agreement has presented an outline for this project, this cooperative agreement welcomes innovative ideas regarding the process and final competency model product.

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other media submitted for posting on the NIC Web site must meet the federal government's requirement for accessibility (508 PDF or HTML file). The awardee must provide descriptive text interpreting all graphics, photos, graphs, and/or multimedia to be included with or distributed alongside the materials and must provide transcripts for all applicable audio/visual works.

Application Requirements: Applications should be concisely written, typed double spaced and reference the project by the “NIC Opportunity Number” and Title in this announcement. The package must include: A cover letter that identifies the audit agency responsible for the applicant's financial accounts as well as the audit period or fiscal year that the applicant operates under (e.g., July 1 through June 30); a program narrative not to exceed 20 pages, in response to the statement of work and a budget narrative explaining projected costs. Applicants may submit a description of the project teams' qualifications and expertise relevant to the project, but should not attach lengthy resumes. Large attachments to the proposal describing the organization or examples of other past work are discouraged. The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf.

Applications may be submitted in hard copy, or electronically via http://www.grants.gov. If submitted in hard copy, there needs to be an original and three copies of the full proposal (program and budget narratives, application forms and assurances). The original should have the applicant's signature in blue ink.

Authority: Public Law 93-415.

Funds Available: NIC is seeking the applicant's best ideas regarding accomplishment of the scope of work and the related costs for achieving the goals of this solicitation. Funds may only be used for the activities that are linked to the desired outcome of the project.

Eligibility of Applicants: An eligible applicant is any public or private agency, educational institution, organization, individual or team with expertise in the described areas.

Review Considerations: Applications received under this announcement will be subject to the NIC Review Process. The criteria for the evaluation of each application will be as follows:

Programmatic (40%)

Are all of the seven project tasks adequately discussed? Is there a clear statement of how each task will be accomplished, to include: Major sub-tasks, the strategies to be employed, required staffing, and other required resources? Are there any innovative approaches, techniques, or design aspects proposed that will enhance the project?

Organizational (35%)

Does the proposed project staff possess the skills, knowledge, and expertise necessary to complete the tasks listed under the scope of work? Does the applicant organization, group, or individual have the organizational capacity to achieve all seven project tasks? Are the proposed project management and staffing plans realistic and sufficient to complete the project within the project time frame?

Project Management/Administration (25%)

Does the applicant identify reasonable objectives, milestones, and measures to track progress? If consultants and/or partnerships are proposed, is there a reasonable justification for their inclusion in the project, and a clear structure to insure effective coordination? Is the proposed budget realistic, provide sufficient cost detail/narrative, and represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CCR Web site: http://www.bpn.gov/ccr. A CCR Handbook and worksheet can also be reviewed at the Web site.

Number of Awards: One.

NIC Opportunity Number: 12AC16. This number should appear as a reference line in the cover letter, where indicated on Standard Form 424, and outside of the envelope in which the application is sent.

Catalog of Federal Domestic Assistance Number: 16.601.

Executive Order 12372: This project is not subject to the provisions of Executive Order 12372.

James Cosby,
Acting Director, National Institute of Corrections.

[FR Doc. 2012-18225 Filed 7-25-12; 8:45 am]

BILLING CODE 4410-36-P